DEPARTMENT OF JUSTICE

Notice of Lodging of Consent Decree Under the Federal Water Pollution Control Act (“Clean Water Act”)

Notice is hereby given that on August 6, 2009, a proposed Consent Decree in United States of America v. Aggregate Industries—Northeast Region, Inc., Civil Action No. 09-11321 was lodged with the United States District Court for the District of Massachusetts.

In this action the United States alleged that Defendant violated sections 301 and 308 of the Clean Water Act, 33 U.S.C. 1311 and 1318, at twenty-three of its facilities in Massachusetts and New Hampshire by failing to apply for permits required under the National Pollution Discharge Elimination System (“NPDES”), discharging process water and/or storm water without a permit, violating effluent limitations established in its NPDES permits, and failure to comply with the requirements of the Multi-Sector General Permit for storm water discharges. The Consent Decree requires Defendant to pay a civil penalty of $2.75 million within 30 days of entry of the decree, as well as implement a number of operational changes designed to ensure compliance with the Clean Water Act at all its facilities. These changes include performance of comprehensive evaluations of all construction materials facilities currently owned by Aggregate, as well as those acquired within three years of entry of the CD, hiring two employees with certification in storm water management who are responsible for compliance with the storm water permits, and providing annual storm water training for all employees with operational responsibilities.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Aggregate Industries—Northeast Region, Inc., D.J. Ref. 90-5-1-1-08932.

The Consent Decree may be examined at the Office of the United States Attorney, One Courthouse Way, John Joseph Moakley Courthouse, Boston, MA 02210, and at U.S. EPA Region 1, One Congress Street, Boston, MA 02114. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.50 (25 cents per page reproduction cost) payable to the U.S. Treasury or, if by e-mail or fax, forward a check in that amount to the Consent Decree Library at the stated address.

Maureen Katz,
Assistant Chief, Environmental Enforcement Section, Environment and Natural Resources Division.

[FR Doc. E9-19255 Filed 8-11-09; 8:45 am]

BILLING CODE 4410-15-P